DEPARTMENT OF HEALTH AND HUMAN SERVICES

National Toxicology Program (NTP); Liaison and Scientific Review Office; Meeting of the NTP Board of Scientific Counselors

AGENCY: National Institute of Environmental Health Sciences (NIEHS), National Institutes of Health.

ACTION: Meeting announcement and request for comments.

SUMMARY: Pursuant to Public Law 92-463, notice is hereby given of a meeting of the NTP Board of Scientific Counselors (NTP BSC). The NTP BSC is composed of scientists from the public and private sectors and provides primary scientific oversight to the NTP Director and evaluates the scientific merit of the NTP's intramural and collaborative programs.

DATES: The NTP BSC meeting will be held on June 22, 2007. The deadlines for submission of written comments and for pre-registration for the meeting are June 8 and June 15, 2007, respectively. Persons needing special assistance, such as sign language interpretation or other reasonable accommodation in order to attend, should contact 919-541-2475 (voice), 919-541-4644 TTY (text telephone), through the Federal TTY Relay System at 800-877-8339, or by e-mail to niehsoeeo@niehs.nih.gov. Requests should be made at least 7 days in advance of the event.

ADDRESSES: The NTP BSC meeting will be held in the Rodbell Auditorium, Rall Building at the NIEHS, 111 T.W. Alexander Drive, Research Triangle Park, NC 27709. Public comments and any other correspondence should be submitted to Dr. Barbara Shane, Executive Secretary for the NTP BSC (NTP Liaison and Scientific Review Office, NIEHS, P.O. Box 12233, MD A3-01, Research Triangle Park, NC 27709; fax: 919-541-0295; or e-mail: shane@niehs.nih.gov).

FOR FURTHER INFORMATION CONTACT: Dr. Barbara Shane (telephone: 919-541-4253 or e-mail: shane@niehs.nih.gov).

SUPPLEMENTARY INFORMATION:

Preliminary Agenda Topics and Availability of Meeting Materials

Preliminary agenda topics include:

• Update of NTP activities.

• Implementation of workshop and NTP retreat recommendations.

• Review of NTP contracts.

• NTP testing nominations.

• Five-year plan for the NTP Interagency Center for the Evaluation of Alternative Toxicological Methods (NICEATM)—Interagency Coordinating Committee on the Validation of Alternative Methods (ICCVAM).

A copy of the preliminary agenda, committee roster, and any additional information, when available, will be posted on the NTP Web site (http://ntp.niehs.nih.gov/go/165) or may be requested in hardcopy from the Executive Secretary for the NTP BSC (see ADDRESSES above). Following the meeting, summary minutes will be prepared and made available on the NTP Web site.

Attendance and Registration

The meeting is scheduled for June 22, 2007, from 8:30 a.m. to adjournment and is open to the public with attendance limited only by the space available. Individuals who plan to attend are encouraged to register online at the NTP Web site by June 15, 2007 to facilitate planning for the meeting. Please note that a photo ID is required to access the NIEHS campus. The NTP is making plans to videocast the meeting through the Internet at http://www.niehs.nih.gov/external/video.htm.

Request for Comments

Time is allotted during the meeting for the public to present comments to the NTP BSC on the agenda topics. Each organization is allowed one time slot per agenda topic. At least 7 minutes will be allotted to each speaker, and if time permits, may be extended to 10 minutes at the discretion of the NTP BSC chair. Registration for oral comments will also be available on-site, although time allowed for presentation by on-site registrants may be less than that for pre-registered speakers and will be determined by the number of persons who register at the meeting.

Persons registering to make oral comments are asked, if possible, to send a copy of their statement to the Executive Secretary for the NTP BSC (see ADDRESSES above) by June 8, 2007, to enable review by the NTP BSC prior to the meeting. Written statements can supplement and may expand the oral presentation. If registering on-site and reading from written text, please bring 40 copies of the statement for distribution to the NTP BSC and NIEHS/NTP staff and to supplement the record. Written comments received in response to this notice will be posted on the NTP Web site and persons identified by their name and affiliation and/or sponsoring organization, if applicable. Persons submitting written comments should include their name, affiliation (if applicable), phone, e-mail, and sponsoring organization (if any) with the document.

Background Information on the NTP Board of Scientific Counselors

The NTP BSC is a technical advisory body comprised of scientists from the public and private sectors who provide primary scientific oversight to the overall program and its centers. Specifically, the NTP BSC advises the NTP on matters of scientific program content, both present and future, and conducts periodic review of the program for the purposes of determining and advising on the scientific merit of its activities and their overall scientific quality. Its members are selected from recognized authorities knowledgeable in fields such as toxicology, pharmacology, pathology, biochemistry, epidemiology, risk assessment, carcinogenesis, mutagenesis, molecular biology, behavioral toxicology and neurotoxicology, immunotoxicology, reproductive toxicology or teratology, and biostatistics. Members serve overlapping terms of up to four years. NTP BSC meetings are held annually or biannually.

Dated: May 3, 2007.
Samuel H. Wilson,
Deputy Director, National Institute of Environmental Health Sciences and National Toxicology Program.

[FR Doc. E7-9174 Filed 5-11-07; 8:45 am]

BILLING CODE 4140-01-P